DEPARTMENT OF THE INTERIOR

Bureau of Land Management

[LLCA930000.L58790000.EU0000; CACA 050512]

Notice of Realty Action: Competitive Sale of Public Lands in Lake County, CA

AGENCY: Bureau of Land Management, Interior.

ACTION: Notice of realty action.

SUMMARY: The Bureau of Land Management (BLM) Ukiah Field Office proposes to sell an 80-acre parcel of public land in Lake County, California. The sale will be conducted as a competitive bid auction in which interested bidders must submit written sealed bids equal to, or greater than, the appraised fair market value of the land.

DATES: Comments regarding the proposed sale must be received by the BLM on or before July 11, 2011. Sealed bids must be received no later than 3 p.m., Pacific Standard Time (PST), on August 29, 2011, at the address specified below. Other deadline dates for payments are specified in the Supplementary Information section below. Sealed bids will be opened on August 30, 2011, which will be the sale date.

ADDRESSES: Written comments concerning the proposed sale should be sent to the Field Manager, BLM Ukiah Field Office, 2550 North State Street, Ukiah, CA 95482. Sealed bids must also be submitted to this address. More detailed information regarding the proposed sale and the land involved, including maps and current appraisal may be reviewed during normal business hours between 8 a.m. and 4 p.m. at the Ukiah Field Office.

FOR FURTHER INFORMATION CONTACT: Alice Vigil, Realty Specialist (707) 468-4082 or via e-mail at alice_vigil@ca.blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public land is proposed for competitive sale in accordance with Sections 203 and 209 of the Federal Land Policy and Management Act (FLPMA) (43 U.S.C. 1713 and 1719):

Mount Diablo Meridian

T. 12 N., R. 6 W.,

Sec. 15, SW¼NW¼, NW¼SW¼.

The area described contains 80 acres, more or less, in Lake County.

This land has been identified as suitable for disposal in the BLM's September 2006 Ukiah Resource Management Plan (RMP), as amended, and is not needed for any Federal purpose. The purpose of the sale is to dispose of land which is difficult and uneconomic to manage. Although the land is adjacent to other public land that has been identified for retention in the RMP, the lands proposed for sale are considered to be difficult and uneconomic to manage because ongoing public use of an access road has contributed to trespass on adjacent private land. Disposal of this land would be in the public interest.

The BLM has completed a mineral potential report which concluded that, with the exception of oil, gas and geothermal resources, there are no known mineral values in the land. The BLM proposes to reserve oil, gas and geothermal mineral interests to the United States and convey all other Federal mineral interests with the sale of the land. On June 1, 2011, the above described land will be segregated from appropriation under the public land laws, including the mining laws, except the sale provisions of the FLPMA. Until completion of the sale or termination of the segregation, the BLM will no longer accept land use applications affecting the public land, except applications for the amendment of previously filed right-of-way (ROW) applications or existing authorizations to increase the term of the grants in accordance with 43 CFR 2807.15. The segregation will terminate upon issuance of a patent, publication in the Federal Register of a termination of the segregation on June 1, 2013, unless extended by the BLM State Director in accordance with 43 CFR 2711.1-2(d) prior to the termination date. Proceeds from the sale will be deposited into the Federal Land Disposal Account, pursuant to the Federal Land Transaction Facilitation Act of July 25, 2000. The land would not be sold until at least July 26, 2011. Any patent issued would contain the following terms, conditions, and reservations:

1. A reservation of a right-of-way to the United States for ditches and canals constructed by authority of the United States under the Act of August 30, 1890 (43 U.S.C. 945).

2. A reservation of all oil, gas and geothermal mineral resources to the United States together with the right to prospect for, mine and remove such mineral resources under applicable law and any regulations as the Secretary of the Interior may prescribe, along with all necessary access and exit rights.

3. Subject to the following existing rights of way (ROW); a ROW for a fiber optic cable issued under serial number CACA 19384, a ROW for an access road issued under serial number CACA 40026, a ROW for a well and windmill issued under serial number CACA 47133, a ROW for a 115-kV power line issued under serial number CACA 14669, and a ROW for a county road issued under serial number CACA 14470.

4. An appropriate indemnification clause protecting the United States from claims arising out of the patentee's use and occupancy of the patented lands.

5. Additional terms and conditions that the authorized officer deems appropriate.

The ROWs listed in 3 above may be replaced by permanent easements prior to conveyance. The parcel may be subject to applications for ROWs received prior to publication of this Notice if processing the application would not adversely affect the marketability or appraised value of the land. Case files containing details on the existing ROWs are available for review at the Ukiah Field Office.

Interested bidders are advised to obtain an Invitation For Bids (IFB) from the BLM Ukiah Field Office at the address above or by calling (707) 468-4082. Bidders must follow the instructions in the IFB to participate in the bidding process. Sealed bids must be for not less than the Federally approved fair market value. Each sealed bid must include a certified check, money order, bank draft, or cashier's check made payable in U.S. dollars to the order of the Bureau of Land Management, for 10 percent of the amount of the bid. The highest qualifying bidder among the qualified bids received for the sale will be declared the high bid and the high bidder will receive written notice. Bidders submitting matching high bid amounts will be provided an opportunity to submit supplemental bids. The Ukiah Field Manager will determine the method of supplemental bidding, which may be by oral auction or additional sealed bids. The successful bidder must submit the remainder of the full bid price in the form of a certified check, money order, bank draft, or cashier's check made payable in U.S. dollars to the Bureau of Land Management prior to the expiration of 180 days from the date of the sale. Personal checks will not be accepted. Failure to submit the full bid price prior to, but not including, the 180th day following the day of the sale will result in the forfeiture of the 10 percent bid deposit to the BLM in accordance with 43 CFR 2711.3-1(d). No exceptions will be made. The BLM will return checks submitted by unsuccessful bidders by U.S. mail. The BLM may accept or reject any or all offers, or withdraw any parcel of land or interest therein from sale, if, in the opinion of the BLM authorized officer, consummation of the sale would not be fully consistent with FLPMA or other applicable law or is determined to not be in the public interest. Under Federal law, public lands may only be conveyed to U.S. citizens 18 years of age or older; a corporation subject to the laws of any State or of the United States; a State, State instrumentality, or political subdivision authorized to hold property, or an entity legally capable of conveying and holding lands under the laws of the State of California. Certification of qualifications, including citizenship or corporation or partnership, must accompany the sealed bid. A bid to purchase the land will constitute an application for conveyance of the mineral interests of no known value, and in conjunction with the final payment, the high bidder will be required to pay a $50 non-refundable filing fee and any applicable administrative costs for processing the conveyance of the mineral interests.

If not sold, the land described in this Notice may be identified for sale later without further legal notice and may be offered for sale by sealed bid, Internet auction, or oral auction. In order to determine the value, through appraisal, of the land proposed to be sold, certain extraordinary assumptions may have been made of the attributes and limitations of the lands and potential effects of local regulations and policies on potential future land uses. Through publication of this Notice, the BLM gives notice that these assumptions may not be endorsed or approved by units of local government. It is the buyer's responsibility to be aware of all applicable local government policies, laws, and regulations that would affect the lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer.

Detailed information concerning the proposed land sale including the reservations, sale procedures and conditions, appraisal, planning and environmental documents, and a mineral report are available for review at the location identified in ADDRESSES above.

Public Comments regarding the proposed sale may be submitted in writing to the attention of the BLM Ukiah Field Manager (see ADDRESSES above) on or before July 18, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director, Natural Resources.

[FR Doc. 2011-13299 Filed 5-31-11; 8:45 am]

BILLING CODE 4310-40-P